ENVIRONMENTAL PROTECTION AGENCY

[Docket ID Numbers EPA-HQ-OECA-2009-0378-83, 0386-88, 0391-95, 0397, 0400-06, 0408-10, 0411-28 and 0447; FRL-8927-7]

Agency Information Collection Activities: Request for Comments on Forty-Three Proposed Information Collection Requests (ICRs)

AGENCY: Environmental Protection Agency (EPA).

ACTION: Notice.

SUMMARY: In compliance with the Paperwork Reduction Act (44 U.S.C. 3501 et seq.), this document announces that EPA is planning to submit the following forty-three existing, approved, continuing Information Collection Requests (ICRs) to the Office of Management and Budget (OMB) for the purpose of renewing the ICRs. Before submitting the ICRs to OMB for review and approval, EPA is soliciting comments on specific aspects of the information collections as described under SUPPLEMENTARY INFORMATION.

DATES: Comments must be submitted on or before September 8, 2009.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II. C.

SUPPLEMENTARY INFORMATION:

A. How can I access the docket and/or submit comments?

(1) Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room 3334, 1301 Constitution Avenue, NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

(2) Instructions for Submitting Comments

Submit your comments by one of the following methods:

(a) Electronic Submission: Access http://www.regulations.gov and follow the on-line instructions for submitting comments.

(b) E-mail: docket.oeca@epa.gov

(c) Fax: (202) 566-1511

(d) Mail: Enforcement and Compliance Docket and Information Center (ECDIC), Environmental Protection Agency, EPA Docket Center (EPA/DC), Mailcode: 2201T, 1200 Pennsylvania Avenue, NW., Washington, DC 20460.

(e) Hand Delivery: Enforcement and Compliance Docket and Information Center (ECDIC), Environmental Protection Agency, EPA Docket Center (EPA/DC), EPA West, Room 3334, 1301 Constitution Avenue, NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II. B, and reference the OMB Control Number for the ICR. It is EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What information is EPA particularly interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

C. What should I consider when I prepare my comments for EPA?

You may find the following suggestions helpful for preparing comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

II. ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit the following forty-three Information Collection Requests (ICR) to the Office of Management and Budget (OMB):

(1) Docket ID Number: EPA-HQ-OECA-2009-0379.

Title: NSPS for Beverage Can Surface Coating (40 CFR Part 60, Subpart WW).

ICR Numbers: EPA ICR Number 0663.04, OMB Control Number 2060-0001.

ICR Status: This ICR is scheduled to expire on October 31, 2009.

(2) Docket ID Number: EPA-HQ-OECA-2009-0383.

Title: NSPS for Small Municipal Waste Combustors (40 CFR Part 60, Subpart AAAA).

ICR Numbers: EPA ICR Number 1900.04, OMB Control Number 2060-0423.

ICR Status: This ICR is scheduled to expire on October 31, 2009.

(3) Docket ID Number: EPA-HQ-OECA-2009-0412.

Title: NSPS for Coal Preparation Plants (40 CFR Part 60, Subpart Y).

ICR Numbers: EPA ICR Number 1062.11, OMB Control Number 2060-0122.

ICR Status: This ICR is scheduled to expire on October 31, 2009.

(4) Docket ID Number: EPA-HQ-OECA-2009-0447.

Title: NSPS for Emission Guidelines and Compliance Times for Small Municipal Waste Combustion Units Constructed On or Before August 30, 1999 (40 CFR Part 60, Subpart BBBB).

ICR Numbers: EPA ICR Number 1901.04, OMB Control Number 2060-0424.

ICR Status: This ICR is scheduled to expire on October 31, 2009.

(5) Docket ID Number: EPA-HQ-OECA-2009-0389.

Title: NSPS for Metal Furniture Coating (40 CFR Part 60, Subpart EE).

ICR Numbers: EPA ICR Number 0649.10, OMB Control Number 2060-0106.

ICR Status: This ICR is scheduled to expire on October 31, 2009.

(6) Docket ID Number: EPA-HQ-OECA-2009-0406.

Title: NSPS for Stationary Source Combustion Turbines (40 CFR Part 60, Subpart KKKK).

ICR Numbers: EPA ICR Number 2177.03, OMB Control Number 2060-0582.

ICR Status: This ICR is scheduled to expire on October 31, 2009.

(7) Docket ID Number: EPA-HQ-OECA-2009-0382.

Title: Federal Emission Guidelines for Large Municipal Waste Combustors Constructed On or Before September 20, 1994 (40 CFR 62, Subpart FFF).

ICR Numbers: EPA ICR Number 1847.05, OMB Control Number 2060-0390.

ICR Status: This ICR is scheduled to expire on November 30, 2009.

(8) Docket ID Number: EPA-HQ-OECA-2009-0401.

Title: NESHAP for Miscellaneous Organic Chemical Manufacturing (40 CFR Part 63, Subpart FFFF).

ICR Numbers: EPA ICR Number 1969.04, OMB Control Number 2060-0533.

ICR Status: This ICR is scheduled to expire on December 31, 2009.

(9) Docket ID Number: EPA-HQ-OECA-2009-0386.

Title: NESHAP for Perchloroethylene Dry Cleaning Facilities (40 CFR Part 63, Subpart M).

ICR Numbers: EPA ICR Number 1415.09, OMB Control Number 2060-0234.

ICR Status: This ICR is scheduled to expire on December 31, 2009.

(10) Docket ID Number: EPA-HQ-OECA-2009-0391.

Title: NSPS for Phosphate Fertilizer Industry (40 CFR Part 60, Subparts T, U, V, W and X).

ICR Numbers: EPA ICR Number 1061.11, OMB Control Number 2060-0037.

ICR Status: This ICR is scheduled to expire on December 31, 2009.

(11) Docket ID Number: EPA-HQ-OECA-2009-0417.

Title: NSPS for Surface Coating of Plastic Parts for Business Machines (40 CFR Part 60, Subpart TTT).

ICR Numbers: EPA ICR Number 1093.09, OMB Control Number 2060-0162.

ICR Status: This ICR is scheduled to expire on January 31, 2010.

(12) Docket ID Number: EPA-HQ-OECA-2009-0416.

Title: NSPS for Nonmetallic Mineral Processing (40 CFR Part 60, Subpart OOO).

ICR Numbers: EPA ICR Number 1084.11, OMB Control Number 2060-0050.

ICR Status: This ICR is scheduled to expire on January 31, 2010.

(13) Docket ID Number: EPA-HQ-OECA-2009-0418.

Title: NSPS for Secondary Lead Smelters (40 CFR Part 60, Subpart L).

ICR Numbers: EPA ICR Number 1128.09, OMB Control Number 2060-0080.

(14) Docket ID Number: EPA-HQ-OECA-2009-0408.

Title: NESHAP for Lime Manufacturing (40 CFR Part 63, Subpart AAAAA).

ICR Numbers: EPA ICR Number 2072.04, OMB Control Number 2060-0554.

ICR Status: This ICR is scheduled to expire on January 31, 2010.

(15) Docket ID Number: EPA-HQ-OECA-2009-0378.

Title: NESHAP for Primary Nonferrous Metals Area Sources—Zinc, Cadmium and Beryllium (40 CFR Part 63, Subpart GGGGGG).

ICR Numbers: EPA ICR Number 2240.03, OMB Control Number 2060-0596.

ICR Status: This ICR is scheduled to expire on January 31, 2010.

(16) Docket ID Number: EPA-HQ-OECA-2009-0388.

Title: NESHAP for Oil and Natural Gas Production (40 CFR Part 63, Subpart HH).

ICR Numbers: EPA ICR Number 1788.09, OMB Control Number 2060-0417.

ICR Status: This ICR is scheduled to expire on February 28, 2010.

(17) Docket ID Number: EPA-HQ-OECA-2009-0427.

Title: NESHAP for Mercury Cell Chlor-Alkali Plants (40 CFR Part 63, Subpart IIIII).

ICR Numbers: EPA ICR Number 2046.05, OMB Control Number 2060-0542.

ICR Status: This ICR is scheduled to expire on February 28, 2010.

(18) Docket ID Number: EPA-HQ-OECA-2009-0428.

Title: NESHAP for Taconite Iron Ore Processing (40 CFR Part 63, Subpart RRRRR).

ICR Numbers: EPA ICR Number 2050.04, OMB Control Number 2060-0538.

ICR Status: This ICR is scheduled to expire on February 28, 2010.

(19) Docket ID Number: EPA-HQ-OECA-2009-0441.

Title: NSPS for Steel Plants: Electric Arc Furnaces and Argon Oxygen Decarbonization Vessels (40 CFR Part 60, Subparts AA and AAa).

ICR Numbers: EPA ICR Number 1060.15, OMB Control Number 2060-0038.

ICR Status: This ICR is scheduled to expire on March 31, 2010.

(20) Docket ID Number: EPA-HQ-OECA-2009-0393.

Title: NESHAP for Printing and Publishing Industry (40 CFR Part 63, Subpart KK).

ICR Numbers: EPA ICR Number 1739.06, OMB Control Number 2060-0335.

ICR Status: This ICR is scheduled to expire on March 31, 2010.

(21) Docket ID Number: EPA-HQ-OECA-2009-0402.

Title: NESHAP for Plastic Parts and Products Surface Coating (40 CFR Part 63, Subpart PPPP).

ICR Numbers: EPA ICR Number 2044.04, OMB Control Number 2060-0537.

ICR Status: This ICR is scheduled to expire on April 30, 2010.

(22) Docket ID Number: EPA-HQ-OECA-2009-0425.

Title: NESHAP for Portland Cement (40 CFR Part 63, Subpart LLL).

ICR Numbers: EPA ICR Number 1801.07, OMB Control Number 2060-0416.

ICR Status: This ICR is scheduled to expire on April 30, 2010.

(23) Docket ID Number: EPA-HQ-OECA-2009-0404.

Title: NESHAP for Iron and Steel Foundries (40 CFR Part 63, Subpart EEEEE).

ICR Numbers: EPA ICR Number 2096.04, OMB Control Number 2060-0537.

ICR Status: This ICR is scheduled to expire on May 31, 2010.

(24) Docket ID Number: EPA-HQ-OECA-2009-0410.

Title: NSPS for Pressure Sensitive Tape and Label Surface Coating Operations (40 CFR Part 60, Subpart RR).

ICR Numbers: EPA ICR Number 0658.10, OMB Control Number 2060-0004.

ICR Status: This ICR is scheduled to expire on May 31, 2010.

(25) Docket ID Number: EPA-HQ-OECA-2009-0420.

Title: NSPS for Flexible Vinyl and Urethane Coating and Printing (40 CFR Part 60, Subpart FFF).

ICR Numbers: EPA ICR Number 1157.09, OMB Control Number 2060-0073.

ICR Status: This ICR is scheduled to expire on May 31, 2010.

(26) Docket ID Number: EPA-HQ-OECA-2009-0424.

Title: NSPS for Storage Vessels for Petroleum Liquids for Which Construction, Reconstruction or Modification Commenced After June 11, 1973 prior to July 23, 1984 (40 CFR Part 60, Subpart Ka).

ICR Numbers: EPA ICR Number 1797.05, OMB Control Number 2060-0442.

ICR Status: This ICR is scheduled to expire on May 31, 2010.

(27) Docket ID Number: EPA-HQ-OECA-2009-0414.

Title: NSPS for Automobile and Light Duty Truck Surface Coating Operations (40 CFR Part 60, Subpart MM).

ICR Numbers: EPA ICR Number 1064.16, OMB Control Number 2060-0034.

ICR Status: This ICR is scheduled to expire on June 30, 2010.

(28) Docket ID Number: EPA-HQ-OECA-2009-0415.

Title: NSPS for Lead Acid Battery Manufacturing (40 CFR Part 60, Subpart KK).

ICR Numbers: EPA ICR Number 1072.09, OMB Control Number 2060-0081.

ICR Status: This ICR is scheduled to expire on June 30, 2010.

(29) Docket ID Number: EPA-HQ-OECA-2009-0405.

Title: NESHAP for Miscellaneous Coating Manufacturing (40 CFR Part 63, Subpart HHHHH).

ICR Numbers: EPA ICR Number 2115.03, OMB Control Number 2060-0535.

ICR Status: This ICR is scheduled to expire on June 30, 2010.

(30) Docket ID Number: EPA-HQ-OECA-2009-0394.

Title: NESHAP for Flexible Polyurethane Foam Product (40 CFR Part 63. Subpart III).

ICR Numbers: EPA ICR Number 1783.05, OMB Control Number 2060-0357.

ICR Status: This ICR is scheduled to expire on June 30, 2010.

(31) Docket ID Number: EPA-HQ-OECA-2009-0395.

Title: NESHAP for Mineral Wool Production (40 CFR Part 63, Subpart DDD).

ICR Numbers: EPA ICR Number 1799.05, OMB Control Number 2060-0362.

ICR Status: This ICR is scheduled to expire on May 31, 2010.

(32) Docket ID Number: EPA-HQ-OECA-2009-0380.

Title: NESHAP for Wood Furniture Manufacturing Operations (40 CFR Part 63, Subpart JJ).

ICR Numbers: EPA ICR Number 1716.06, OMB Control Number 2060-0324.

(33) Docket ID Number: EPA-HQ-OECA-2009-0397.

Title: NESHAP for the Manufacture of Amino/Phenolic Resins (40 CFR Part 63, Subpart OOO).

ICR Numbers: EPA ICR Number 1869.06, OMB Control Number 2060-0434.

ICR Status: This ICR is scheduled to expire on July 31, 2010.

(34) Docket ID Number: EPA-HQ-OECA-2009-0419.

Title: NSPS for Magnetic Tape Coating Facilities (40 CFR Part 60, Subpart SSS).

ICR Numbers: EPA ICR Number 1135.10, OMB Control Number 2060-0171.

ICR Status: This ICR is scheduled to expire on July 31, 2010.

(35) Docket ID Number: EPA-HQ-OECA-2009-0381.

Title: NESHAP for Pharmaceutical Production (40 CFR Part 63, Subpart GGG).

ICR Numbers: EPA ICR Number 1781.05, OMB Control Number 2060-0358.

ICR Status: This ICR is scheduled to expire on July 31, 2010.

(36) Docket ID Number: EPA-HQ-OECA-2009-0403.

Title: NESHAP for Metal Can Manufacturing Surface Coating (40 CFR Part 63, Subpart KKKK.

ICR Numbers: EPA ICR Number 2079.04, OMB Control Number 2060-0541.

ICR Status: This ICR is scheduled to expire on July 31, 2010.

(37) Docket ID Number: EPA-HQ-OECA-2009-0392.

Title: NESHAP for Commercial Ethylene Oxide Sterilization and Fumigation Operations (40 CFR Part 63, Subpart O).

ICR Numbers: EPA ICR Number 1666.08, OMB Control Number 2060-0283.

ICR Status: This ICR is scheduled to expire on July 31, 2010.

(38) Docket ID Number: EPA-HQ-OECA-2009-0421.

Title: NSPS for Secondary Brass and Bronze Production (40 CFR Part 60, Subpart M), Primary Copper Smelters (40 CFR Part 60, Subpart P, Primary Zinc Smelters (40 CFR Part 60, Subpart Q), Primary Lead Smelters (40 CFR Part 60, Subpart R), Primary Aluminum Reduction Plants (40 CFR Part 60, Subpart S), and Ferroalloy Production Facilities (40 CFR Part 60, Subpart Z).

ICR Numbers: EPA ICR Number 1604.09, OMB Control Number 2060-0110.

ICR Status: This ICR is scheduled to expire on July 31, 2010.

(39) Docket ID Number: EPA-HQ-OECA-2009-0409.

Title: NSPS for the Graphic Arts Industry (40 CFR Part 60, Subpart QQ).

ICR Numbers: EPA ICR Number 0657.10, OMB Control Number 2060-0105.

ICR Status: This ICR is scheduled to expire on July 31, 2010.

(40) Docket ID Number: EPA-HQ-OECA-2009-0423.

Title: NESHAP for Gasoline Distribution Facilities (40 CFR Part 63, Subpart R).

ICR Numbers: EPA ICR Number 1659.07, OMB Control Number 2060-0325.

ICR Status: This ICR is scheduled to expire on August 31, 2010.

(41) Docket ID Number: EPA-HQ-OECA-2009-0413.

Title: NSPS for Sewage Sludge Treatment Plant Incineration (40 CFR Part 60, Subpart O).

ICR Numbers: EPA ICR Number 1063.11, OMB Control Number 2060-0035.

ICR Status: This ICR is scheduled to expire on August 31, 2010.

(42) Docket ID Number: EPA-HQ-OECA-2009-0422.

Title: NESHAP Chromium Emissions from Hard and Decorative Chromium Electroplating and Chromium Anodizing Tanks (40 CFR Part 63, Subpart N).

ICR Numbers: EPA ICR Number 1611.07, OMB Control Number 2060-0327.

ICR Status: This ICR is scheduled to expire on September 30, 2010.

(43) Docket ID Number: EPA-HQ-OECA-2009-0400.

Title: NESHAP for Boat Manufacturing (40 CFR Part 63, Subpart VVVV).

ICR Numbers: EPA ICR Number 1966.04, OMB Control Number 2060-0546.

ICR Status: This ICR is scheduled to expire on September 30, 2010.

C. Contact Individuals for ICRs

(1) NSPS for Beverage Can Surface Coating (40 CFR Part 60, Subpart WW); Leonard Lazarus of the Office of Compliance at (202) 564-6369; or via e-mail to: lazarus.leonard@epa.gov; EPA ICR Number 0663.04; OMB Control Number 2060-0001; expiration date October 31, 2009.

(2) NSPS for Small Municipal Waste Combustors (40 CFR Part 60, Subpart AAAA); Rebecca Kane of the Office of Compliance at (202) 564-5960; or via e-mail to: kane.rebecca@epa.gov; EPA ICR Number 1900.04, OMB Control Number 2060-0423; expiration date October 31, 2009.

(3) NSPS for Coal Preparation Plants (40 CFR Part 60, Subpart Y); John Schaefer of the Office of Air Quality Planning and Standards at (919) 541-0296 or via e-mail to: schaefer.john@epa.gov; EPA ICR Number 1062.11; OMB Control Number 2060-0122; expiration date October 31, 2009.

(4) NSPS for Emission Guidelines and Compliance Times for Small Municipal Waste Combustion Units Constructed On or Before August 30, 1999 (40 CFR Part 60, Subpart BBBB); Docket ID Number EPA-HQ-OECA-2009-XXXX; EPA ICR Number 1901.04; OMB Control Number 2060-0424; expiration date October 31, 2009.

(5) NSPS for Metal Furniture Coating (40 CFR Part 60, Subpart EE); Leonard Lazarus of the Office of Compliance at (202) 564-6369; or via e-mail to: lazarus.leonard@epa.gov; EPA ICR Number 0649.10; OMB Control Number 2060-0106; expiration date October 31, 2009.

(6) NSPS for Stationary Source Combustion Turbines (40 CFR Part 60, Subpart KKKK); Learia Williams of the Office of Compliance at (202) 564-4113; or via e-mail to: williams.learia@epa.gov; EPA ICR Number 2177.03; OMB Control Number 2060-0582; expiration date October 31, 2009.

(7) Federal Emission Guidelines for Large Municipal Waste Combustors Constructed On or Before September 20, 1994 (40 CFR 62, Subpart FFF); Rebecca Kane of the Office of Compliance at (202) 564-5960; or via e-mail to: kane.rebecca@epa.gov; EPA ICR Number 1847.05; OMB Control Number 2060-0390; expiration date November 30, 2009.

(8) NESHAP for Miscellaneous Organic Chemical Manufacturing (40 CFR Part 63, Subpart FFFF); Learia Williams of the Office of Compliance at (202) 564-4113; or via e-mail to: williams.learia@epa.gov; EPA ICR Number 1969.04; OMB Control Number 2060-0533; expiration date December 31, 2009.

(9) NESHAP for Perchloroethylene Dry Cleaning Facilities (40 CFR Part 63, Subpart M); Learia Williams of the Office of Compliance at (202) 564-4113; or via e-mail to: williams.learia@epa.gov; EPA ICR Number 1415.09; OMB Control Number 2060-0234; expiration date December 31, 2009.

(10) NSPS for Phosphate Fertilizer Industry (40 CFR Part 60, Subparts T, U, V, W and X); Learia Williams of the Office of Compliance at (202) 564-4113; or via e-mail to: williams.learia@epa.gov; EPA ICR Number 1061.11; OMB Control Number 2060-0037; expiration date December 31, 2009.

(11) NSPS for Surface Coating of Plastic Parts for Business Machines (40 CFR Part 60, Subpart TTT); John Schaefer of the Office of Air Quality Planning and Standards at (919) 541-0296 or via e-mail to schaefer.john@epa.gov; EPA ICR Number 1093.09; OMB Control Number 2060-0162; expiration date January 31, 2010.

(12) NSPS for Nonmetallic Mineral Processing (40 CFR Part 60, Subpart OOO); John Schaefer of the Office of Air Quality Planning and Standards at (919) 541-0296 or via e-mail to schaefer.john@epa.gov; EPA ICR Number 1084.11; OMB Control Number 2060-0050; expiration date January 31, 2010.

(13) NSPS for Secondary Lead Smelters (40 CFR Part 60, Subpart L); John Schaefer of the Office of Air Quality Planning and Standards at (919) 541-0296 or via e-mail to schaefer.john@epa.gov; EPA ICR Number 1128.09; OMB Control Number 2060-0080; expiration date January 31, 2010.

(14) NESHAP for Lime Manufacturing (40 CFR Part 63, Subpart AAAAA); John Schaefer of the Office of Air Quality Planning and Standards at (919) 541-0296 or via e-mail to schaefer.john@epa.gov; EPA ICR Number 2072.04; OMB Control Number 2060-0554; expiration date January 31, 2010.

(15) NESHAP for Primary Nonferrous Metals Area Sources—Zinc, Cadmium and Beryllium (40 CFR Part 63, Subpart GGGGGG); Learia Williams of the Office of Compliance at (202) 564-4113; or via e-mail to: williams.learia@epa.gov; EPA ICR Number 2240.03; OMB Control Number 2060-0596; expiration date January 31, 2010.

(16) NESHAP for Oil and Natural Gas Production (40 CFR Part 63, Subpart HH); Learia Williams of the Office of Compliance at (202) 564-4113; or via e-mail to: williams.learia@epa.gov; EPA ICR Number 1788.09; OMB Control Number 2060-0417; EPA ICR Number 1788.09; expiration date February 28, 2010.

(17) NESHAP for Mercury Cell Chlor-Alkali Plants (40 CFR Part 63, Subpart IIIII); John Schaefer of the Office of Air Quality Planning and Standards at (919) 541-0296 or via e-mail to schaefer.john@epa.gov; EPA ICR Number 2046.05; OMB Control Number 2060-0542; expiration date February 28, 2010.

(18) NESHAP for Taconite Iron Ore Processing (40 CFR Part 63, Subpart RRRRR); John Schaefer of the Office of Air Quality Planning and Standards at (919) 541-0296 or via e-mail to schaefer.john@epa.gov; EPA ICR Number 2050.04; OMB Control Number 2060-0538; expiration date February 28, 2010.

(19) NSPS for Steel Plants: Electric Arc Furnaces and Argon Oxygen Decarbonization Vessels (40 CFR Part 60, Subparts AA and AAa); John Schaefer of the Office of Air Quality Planning and Standards at (919) 541-0296 or via e-mail to schaefer.john@epa.gov; EPA ICR Number 1060.15; OMB Control Number 2060-0038; expiration date March 31, 2010.

(20) NESHAP for Printing and Publishing Industry (40 CFR Part 63, Subpart KK); Learia Williams of the Office of Compliance at (202) 564-4113; or via e-mail to: williams.learia@epa.gov; EPA ICR Number 1739.06; OMB Control Number 2060-0335; expiration date March 31, 2010.

(21) NESHAP for Plastic Parts and Products Surface Coating (40 CFR Part 63, Subpart PPPP); Leonard Lazarus of the Office of Compliance at (202) 564-6369; or via e-mail to: lazarus.leonard@epa.gov; EPA ICR Number 2044.04; OMB Control Number 2060-0537; expiration date April 30, 2010.

(22) NESHAP for Portland Cement (40 CFR Part 63, Subpart LLL); John Schaefer of the Office of Air Quality Planning and Standards at (919) 541-0296 or via e-mail to schaefer.john@epa.gov; EPA ICR Number 1801.07; OMB Control Number 2060-0416; expiration date April 30, 2010.

(23) NESHAP for Iron and Steel Foundries (40 CFR Part 63, Subpart EEEEE); Learia Williams of the Office of Compliance at (202) 564-4113; or via e-mail to: williams.learia@epa.gov; EPA ICR Number 2096.04; OMB Control Number 2060-0537; expiration date May 31, 2010.

(24) NSPS for Pressure Sensitive Tape and Label Surface Coating Operations (40 CFR Part 60, Subpart RR); John Schaefer of the Office of Air Quality Planning and Standards at (919) 541-0296 or via e-mail to schaefer.john@epa.gov; EPA ICR Number 0658.10; OMB Control Number 2060-0004; expiration date May 31, 2010.

(25) NSPS for Flexible Vinyl and Urethane Coating and Printing (40 CFR Part 60, Subpart FFF); John Schaefer of the Office of Air Quality Planning and Standards at (919) 541-0296 or via e-mail to schaefer.john@epa.gov; EPA ICR Number 1157.09; OMB Control Number 2060-0073; expiration date May 31, 2010.

(26) NSPS for Storage Vessels for Petroleum Liquids for Which Construction, Reconstruction or Modification Commenced After June 11, 1973 prior to July 23, 1984 (40 CFR Part 60, Subpart Ka); John Schaefer of the Office of Air Quality Planning and Standards at (919) 541-0296 or via e-mail to schaefer.john@epa.gov; EPA ICR Number 1797.05; OMB Control Number 2060-0442; expiration date May 31, 2010.

(27) NSPS for Automobile and Light Duty Truck Surface Coating Operations (40 CFR Part 60, Subpart MM); John Schaefer of the Office of Air Quality Planning and Standards at (919) 541-0296 or via e-mail to schaefer.john@epa.gov; EPA ICR Number 1064.16; OMB Control Number 2060-0034; expiration date June 30, 2010.

(28) NSPS for Lead Acid Battery Manufacturing (40 CFR Part 60, Subpart KK); John Schaefer of the Office of Air Quality Planning and Standards at (919) 541-0296 or via e-mail to schaefer.john@epa.gov; EPA ICR Number 1072.09; OMB Control Number 2060-0081; expiration date June 30, 2010.

(29) NESHAP for Miscellaneous Coating Manufacturing (40 CFR Part 63, Subpart HHHHH); Learia Williams of the Office of Compliance at (202) 564-4113; or via e-mail to: williams.learia@epa.gov; EPA ICR Number 2115.03; OMB Control Number 2060-0535; expiration date June 30, 2010.

(30) NESHAP for Flexible Polyurethane Foam Product (40 CFR Part 63. Subpart III); Learia Williams of the Office of Compliance at (202) 564-4113; or via e-mail to: williams.learia@epa.gov; EPA ICR Number 1783.05; OMB Control Number 2060-0357; expiration date June 30, 2010.

(31) NESHAP for Mineral Wool Production (40 CFR Part 63, Subpart DDD); Learia Williams of the Office of Compliance at (202) 564-4113; or via e-mail to: williams.learia@epa.gov; EPA ICR Number 1799.05; OMB Control Number 2060-0362; expiration date May 31, 2010.

(32) NESHAP for Wood Furniture Manufacturing Operations (40 CFR Part 63, Subpart JJ); Learia Williams of the Office of Compliance at (202) 564-4113; or via e-mail to: williams.learia@epa.gov; EPA ICR Number 1716.06; OMB Control Number 2060-0324; expiration date June 30, 2010.

(33) NESHAP for the Manufacture of Amino/Phenolic Resins (40 CFR Part 63, Subpart OOO); Learia Williams of the Office of Compliance at (202) 564-4113; or via e-mail to: williams.learia@epa.gov; EPA ICR Number 1869.06; OMB Control Number 2060-0434; expiration date July 31, 2010.

(34) NSPS for Magnetic Tape Coating Facilities (40 CFR Part 60, Subpart SSS); John Schaefer of the Office of Air Quality Planning and Standards at (919) 541-0296 or via e-mail to schaefer.john@epa.gov; EPA ICR Number 1135.10; OMB Control Number 2060-0171; expiration date July 31, 2010.

(35) NESHAP for Pharmaceutical Production (40 CFR Part 63, Subpart GGG); Learia Williams of the Office of Compliance at (202) 564-4113; or via e-mail to: williams.learia@epa.gov; EPA ICR Number 1781.05; OMB Control Number 2060-0358; expiration date July 31, 2010.

(36) NESHAP for Metal Can Manufacturing Surface Coating (40 CFR Part 63, Subpart KKKK); Learia Williams of the Office of Compliance at (202) 564-4113; or via e-mail to: williams.learia@epa.gov; EPA ICR Number 2079.04; OMB Control Number 2060-0541; expiration date July 31, 2010.

(37) NESHAP for Commercial Ethylene Oxide Sterilization and Fumigation Operations (40 CFR Part 63, Subpart O); Learia Williams of the Office of Compliance at (202) 564-4113; or via e-mail to: williams.learia@epa.gov; EPA ICR Number 1666.08; OMB Control Number 2060-0283; expiration date July 31, 2010.

(38) NSPS for Secondary Brass and Bronze Production (40 CFR Part 60, Subpart M), Primary Copper Smelters (40 CFR Part 60, Subpart P, Primary Zinc Smelters (40 CFR Part 60, Subpart Q), Primary Lead Smelters (40 CFR Part 60, Subpart R), Primary Aluminum Reduction Plants (40 CFR Part 60, Subpart S), and Ferroalloy Production Facilities (40 CFR Part 60, Subpart Z); John Schaefer of the Office of Air Quality Planning and Standards at (919) 541-0296 or via e-mail to schaefer.john@epa.gov; EPA ICR Number 1604.09; OMB Control Number 2060-0110; expiration date July 31, 2010.

(39) NSPS for the Graphic Arts Industry (40 CFR Part 60, Subpart QQ); John Schaefer of the Office of Air Quality Planning and Standards at (919) 541-0296 or via e-mail to schaefer.john@epa.gov; EPA ICR Number 0657.10; OMB Control Number 2060-0105; expiration date July 31, 2010.

(40) NESHAP for Gasoline Distribution Facilities (40 CFR Part 63, Subpart R); John Schaefer of the Office of Air Quality Planning and Standards at (919) 541-0296 or via e-mail to schaefer.john@epa.gov; EPA ICR Number 1659.07; OMB Control Number 2060-0325; expiration date August 31, 2010.

(41) NSPS for Sewage Sludge Treatment Plant Incineration (40 CFR Part 60, Subpart O); John Schaefer of the Office of Air Quality Planning and Standards at (919) 541-0296 or via e-mail to schaefer.john@epa.gov; EPA ICR Number 1063.11; OMB Control Number 2060-0035; expiration date August 31, 2010.

(42) NESHAP Chromium Emissions From Hard and Decorative Chromium Electroplating and Chromium Anodizing Tanks (40 CFR Part 63, Subpart N); John Schaefer of the Office of Air Quality Planning and Standards at (919) 541-0296 or via e-mail to schaefer.john@epa.gov; EPA ICR Number 1611.07; OMB Control Number 2060-0327; expiration date September 30, 2010.

(43) NESHAP for Boat Manufacturing (40 CFR Part 63, Subpart VVVV); Learia Williams of the Office of Compliance at (202) 564-4113; or via e-mail to: williams.learia@epa.gov; EPA ICR Number 1966.04; OMB Control Number 2060-0546; expiration date September 30, 2010.

D. Information for Individual ICRs

(1) NSPS for Beverage Can Surface Coating (40 CFR Part 60, Subpart WW); Docket ID Number EPA-HQ-OECA-2009-0379; EPA ICR Number 0663.04; OMB Control Number 2060-0001; expiration date October 31, 2009.

Affected Entities: Entities potentially affected by this action are the owners or operators of beverage can surface coating facilities.

Abstract: The affected entities are subject to the General Provisions of the NSPS at 40 CFR part 60, subpart A and any changes, or additions to the General Provisions specified at 40 CFR part 60, subpart WW.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 43 hours per response.

Respondents/Affected Entities: Beverage can surface coating facilities.

Estimated Number of Respondents: 48.

Frequency of Response: Initially, occasionally, and semiannually.

Estimated Total Annual Hour Burden: 5,134.

Estimated Total Annual Cost: $101,000, which is comprised of no annualized capital/startup costs and operation and maintenance (O&M) costs of $101,000.

(2) NSPS for Small Municipal Waste Combustors (40 CFR Part 60, Subpart AAAA); Docket ID Number EPA-HQ-OECA-2009-0383; EPA ICR Number 1900.04, OMB Control Number 2060-0423; expiration date October 31, 2009.

Affected Entities: Entities potentially affected by this action are the owners or operators of small municipal waste combustors.

Abstract: The affected entities are subject to the General Provisions of the NSPS at 40 CFR part 60, subpart A and any changes, or additions to the General Provisions specified at 40 CFR part 60, subpart AAAA.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 145 hours per response.

Respondents/Affected Entities: Small municipal waste combustors.

Estimated Number of Respondents: 3.

Frequency of Response: Initially, occasionally, semiannually and annually.

Estimated Total Annual Hour Burden: 14,509.

Estimated Total Annual Cost: $168,000, which is comprised of $66,000 in annualized capital/startup costs and O&M costs of $102,000.

(3) NSPS for Coal Preparation Plants (40 CFR Part 60, Subpart Y); Docket ID Number EPA-HQ-OECA-2009-0412; EPA ICR Number 1062.11; OMB Control Number 2060-0122; expiration date October 31, 2009.

Affected Entities: Entities potentially affected by this action are the owners or operators of coal preparation plants.

Abstract: The affected entities are subject to the General Provisions of the NSPS at 40 CFR part 60, subpart A and any changes, or additions to the General Provisions specified at 40 CFR part 60, subpart Y.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 20 hours per response.

Respondents/Affected Entities: Coal preparation plants.

Estimated Number of Respondents: 1,013.

Frequency of Response: Initially, occasionally, and semiannually.

Estimated Total Annual Hour Burden: 29,590.

Estimated Total Annual Cost: $40,000, which is comprised of no annualized capital/startup costs and O&M costs of $40,000.

(4) NSPS for Emission Guidelines and Compliance Times for Small Municipal Waste Combustion Units Constructed On or Before August 30, 1999 (40 CFR Part 60, Subpart BBBB); Docket ID Number EPA-HQ-OECA-2009-0447; EPA ICR Number 1901.04; OMB Control Number 2060-0424; expiration date October 31, 2009.

Affected Entities: Entities potentially affected by this action are the owners or operators of small municipal waste combustion units constructed on or before August 30, 1999.

Abstract: This supporting statement addresses information collection activities imposed by the Emission Guidelines for Other Solid Waste Incineration (OSWI) Units (40 CFR Part 60 Subpart BBBB).

The emission guidelines can be thought of as model regulations that a State agency can use in developing plans to implement the emission guidelines. If a State does not develop, adopt, and submit an approvable State plan, the Federal government must develop a plan to implement the emission guidelines. This ICR includes the burden for an affected entity whether it is ultimately regulated under a State or Federal plan.

Burden Statement: The annual public reporting and recordkeeping burden for this collection of information is estimated to average approximately 1,709 hours per response.

Respondents/Affected Entities: Small municipal waste combustion units constructed on or before August 30, 1999.

Estimated Number of Respondents: 23.

Frequency of Response: Initially, occasionally, quarterly, semiannually and annually.

Estimated Total Annual Hour Burden: 100,854.

Estimated Total Annual Cost: $1,037,000, which is comprised of no annualized capital/startup costs and O&M costs of $1,037,000.

(5) NSPS for Metal Furniture Coating (40 CFR Part 60, Subpart EE); Docket ID Number EPA-HQ-OECA-2009-0389; EPA ICR Number 0649.10; OMB Control Number 2060-0106; expiration date October 31, 2009.

Affected Entities: Entities potentially affected by this action are the owners or operators of metal furniture coating facilities.

Abstract: The affected entities are subject to the General Provisions of the NSPS at 40 CFR part 60, subpart A and any changes, or additions to the General Provisions specified at 40 CFR part 60, subpart EE.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 58 hours per response.

Respondents/Affected Entities: Metal furniture coating facilities.

Estimated Number of Respondents: 400.

Frequency of Response: Initially, occasionally, and semiannually.

Estimated Total Annual Hour Burden: 56,074.

Estimated Total Annual Cost: $840,000, which is comprised of no annualized capital/startup costs and O&M costs of $840,000.

(6) NSPS for Stationary Source Combustion Turbines (40 CFR Part 60, Subpart KKKK); Docket ID Number EPA-HQ-OECA-2009-0406; EPA ICR Number 2177.03; OMB Control Number 2060-0582; expiration date October 31, 2009.

Affected Entities: Entities potentially affected by this action are the owners or operators of stationary source combustion turbines.

Abstract: The affected entities are subject to the General Provisions of the NSPS at 40 CFR part 60, subpart A and any changes, or additions to the General Provisions specified at 40 CFR part 60, subpart KKKK.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 26 hours per response.

Respondents/Affected Entities: Stationary source combustion turbines.

Estimated Number of Respondents: 73.

Frequency of Response: Initially, occasionally, and semiannually.

Estimated Total Annual Hour Burden: 20,542.

Estimated Total Annual Cost: There are no annualized capital/startup costs or O&M costs associated with this ICR.

(7) Federal Emission Guidelines for Large Municipal Waste Combustors Constructed On or Before September 20, 1994 (40 CFR 62, Subpart FFF); Docket ID Number EPA-HQ-OECA-2009-0382; EPA ICR Number 1847.05; OMB Control Number 2060-0390; expiration date November 30, 2009.

Affected Entities: Entities potentially affected by this action are the owners or operators of large municipal waste combustors constructed on or before September 20, 1994.

Abstract: This supporting statement addresses information collection activities imposed by the Federal Emission Guidelines for Large Municipal Waste Combustors Constructed On or Before September 20, 1994 (40 CFR Part 62, Subpart FFF).

The emission guidelines can be thought of as model regulations that a State agency can use in developing plans to implement the emission guidelines. If a State does not develop, adopt, and submit an approvable State plan, the Federal government must develop a plan to implement the emission guidelines. This ICR includes the burden for an affected entity whether it is ultimately regulated under a State or Federal plan.

Burden Statement: The annual public reporting and recordkeeping burden for this collection of information is estimated to average approximately 1,601 hours per response.

Respondents/Affected Entities: Federal Emission Guidelines for Large Municipal Waste Combustors Constructed On or Before September 20, 1994.

Estimated Number of Respondents: 9.

Frequency of Response: Initially, occasionally, quarterly, semiannually and annually.

Estimated Total Annual Hour Burden: 38,417.

Estimated Total Annual Cost: $384,000, which is comprised of no annualized capital/startup costs and O&M costs of $384,000.

(8) NESHAP for Miscellaneous Organic Chemical Manufacturing (40 CFR Part 63, Subpart FFFF); Docket ID Number EPA-HQ-OECA-2009-0401; EPA ICR Number 1969.04; OMB Control Number 2060-0533; expiration date December 31, 2009.

Affected Entities: Entities potentially affected by this action are the owners or operators of miscellaneous organic chemical manufacturing plants.

Abstract: The affected entities are subject to the General Provisions of the NESHAP at 40 CFR part 63, subpart A, and any changes, or additions to the General Provisions specified at 40 CFR part 63, subpart FFFF.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 254 hours per response.

Respondents/Affected Entities: Miscellaneous organic chemical manufacturing facilities.

Estimated Number of Respondents: 257.

Frequency of Response: Initially, occasionally, and semiannually.

Estimated Total Annual Hour Burden: 416,830.

Estimated Total Annual Cost: $6,133,000, which is comprised of $670,000 annualized capital/startup costs and O&M costs of $5,463,000.

(9) NESHAP for Perchloroethylene Dry Cleaning Facilities (40 CFR Part 63, Subpart M); Docket ID Number EPA-HQ-OECA-2009-0386; EPA ICR Number 1415.09; OMB Control Number 2060-0234; expiration date December 31, 2009.

Affected Entities: Entities potentially affected by this action are the owners or operators of perchloroethylene dry cleaning facilities.

Abstract: The affected entities are subject to the General Provisions of the NESHAP at 40 CFR part 63, subpart A, and any changes, or additions to the General Provisions specified at 40 CFR part 63, subpart M.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 42 hours per response.

Respondents/Affected Entities: Perchloroethylene dry cleaning facilities.

Estimated Number of Respondents: 34,240.

Frequency of Response: Occasionally and annually.

Estimated Total Annual Hour Burden: 1,537,784.

Estimated Total Annual Cost: $53,000, which is comprised of no annualized capital/startup costs and O&M costs of $53,000.

(10) NSPS for Phosphate Fertilizer Industry (40 CFR Part 60, Subparts T, U, V, W and X); Docket ID Number EPA-HQ-OECA-2009-0391; EPA ICR Number 1061.11; OMB Control Number 2060-0037; expiration date December 31, 2009.

Affected Entities: Entities potentially affected by this action are the owners or operators of phosphate fertilizer plants.

Abstract: The affected entities are subject to the General Provisions of the NSPS at 40 CFR part 60, subpart A and any changes, or additions to the General Provisions specified at 40 CFR part 60, subparts T, U, V, and X.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 46 hours per response.

Respondents/Affected Entities: Phosphate fertilizer plants.

Estimated Number of Respondents: 13.

Frequency of Response: Initially, occasionally, and semiannually.

Estimated Total Annual Hour Burden: 1,194.

Estimated Total Annual Cost: $320,190, which is comprised of no annualized capital/startup costs and O&M costs of $320,190.

(11) NSPS for Surface Coating of Plastic Parts for Business Machines (40 CFR Part 60, Subpart TTT); Docket ID Number EPA-HQ-OECA-2009-0417; EPA ICR Number 1093.09; OMB Control Number 2060-0162; expiration date January 31, 2010.

Affected Entities: Entities potentially affected by this action are the owners or operators of facilities that surface Coat plastic parts for business machines.

Abstract: The affected entities are subject to the General Provisions of the NSPS at 40 CFR part 60, subpart A and any changes, or additions to the General Provisions specified at 40 CFR part 60, subpart TTT.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 35 hours per response.

Respondents/Affected Entities: Facilities that surface coating of plastic parts for business machines.

Estimated Number of Respondents: 10.

Frequency of Response: Occasionally, monthly, quarterly and semiannually.

Estimated Total Annual Hour Burden: 15,643.

Estimated Total Annual Cost: There are no annualized capital/startup costs or O&M costs associated with this ICR.

(12) NSPS for Nonmetallic Mineral Processing (40 CFR Part 60, Subpart OOO); Docket ID Number EPA-HQ-OECA-2009-0416; EPA ICR Number 1084.11; OMB Control Number 2060-0050; expiration date January 31, 2010.

Affected Entities: Entities potentially affected by this action are the owners or operators of nonmetallic mineral processing facilities.

Abstract: The affected entities are subject to the General Provisions of the NSPS at 40 CFR part 60, subpart A and any changes, or additions to the General Provisions specified at 40 CFR part 60, subpart OOO.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately six hours per response.

Respondents/Affected Entities: Nonmetallic mineral processing facilities.

Estimated Number of Respondents: 3,825.

Frequency of Response: Initially and occasionally.

Estimated Total Annual Hour Burden: 31,026.

Estimated Total Annual Cost: There are no annualized capital/startup costs or O&M costs associated with this ICR.

(13) NSPS for Secondary Lead Smelters (40 CFR Part 60, Subpart L); Docket ID Number EPA-HQ-OECA-2009-0418; EPA ICR Number 1128.09; OMB Control Number 2060-0080; expiration date January 31, 2010.

Affected Entities: Entities potentially affected by this action are the owners or operators of secondary lead smelters.

Abstract: The affected entities are subject to the General Provisions of the NSPS at 40 CFR part 60, subpart A and any changes, or additions to the General Provisions specified at 40 CFR part 60, subpart L.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 1.5 hours per response.

Respondents/Affected Entities: Secondary lead smelters.

Estimated Number of Respondents: 25.

Frequency of Response: Initially and occasionally.

Estimated Total Annual Hour Burden: 38.

Estimated Total Annual Cost: There are no annualized capital/startup costs or O&M costs associated with this ICR.

(14) NESHAP for Lime Manufacturing (40 CFR Part 63, Subpart AAAAA); Docket ID Number EPA-HQ-OECA-2009-0408; EPA ICR Number 2072.04; OMB Control Number 2060-0554; expiration date January 31, 2010.

Affected Entities: Entities potentially affected by this action are the owners or operators of lime manufacturing plants.

Abstract: The affected entities are subject to the General Provisions of the NESHAP at 40 CFR part 63, subpart A, and any changes, or additions to the General Provisions specified at 40 CFR part 63, subpart AAAAA.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 99 hours per response.

Respondents/Affected Entities: Lime manufacturing plants.

Estimated Number of Respondents: 44.

Frequency of Response: Initially, occasionally, and semiannually.

Estimated Total Annual Hour Burden: 10,212.

Estimated Total Annual Cost: $174,000, which is comprised of $3,000 in annualized capital/startup costs and O&M costs of $171,000.

(15) NESHAP for Primary Nonferrous Metals Area Sources—Zinc, Cadmium and Beryllium (40 CFR Part 63, Subpart GGGGGG); Docket ID Number EPA-HQ-OECA-2009-0378; EPA ICR Number 2240.03; OMB Control Number 2060-0596; expiration date January 31, 2010.

Affected Entities: Entities potentially affected by this action are the owners or operators of primary nonferrous metals facilities.

Abstract: The affected entities are subject to the General Provisions of the NESHAP at 40 CFR part 63, subpart A, and any changes, or additions to the General Provisions specified at 40 CFR part 63, subpart GGGGG.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 13 hours per response.

Respondents/Affected Entities: Primary nonferrous metals facilities.

Estimated Number of Respondents: 5.

Frequency of Response: Occasionally.

Estimated Total Annual Hour Burden: 38.

Estimated Total Annual Cost: There are no annualized capital/startup costs or O&M costs associated with this ICR.

(16) NESHAP for Oil and Natural Gas Production (40 CFR Part 63, Subpart HH); Docket ID Number EPA-HQ-OECA-2009-0388; EPA ICR Number 1788.10; OMB Control Number 2060-0417; expiration date February 28, 2010.

Affected Entities: Entities potentially affected by this action are the owners or operators of oil and natural gas production facilities.

Abstract: The affected entities are subject to the General Provisions of the NESHAP at 40 CFR part 63, subpart A, and any changes, or additions to the General Provisions specified at 40 CFR part 63, subpart HH.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 98 hours per response.

Respondents/Affected Entities: Oil and Natural Gas Production Facilities.

Estimated Number of Respondents: 129,846.

Frequency of Response: Occasionally, semiannually and annually.

Estimated Total Annual Hour Burden: 203,921.

Estimated Total Annual Cost: $525,000, which is comprised of annualized capital/startup costs of $20,000, and O&M costs of $505,000.

(17) NESHAP for Mercury Cell Chlor-Alkali Plants (40 CFR Part 63, Subpart IIIII); Docket ID Number EPA-HQ-OECA-2009-0427; EPA ICR Number 2046.05; OMB Control Number 2060-0542; expiration date February 28, 2010.

Affected Entities: Entities potentially affected by this action are the owners or operators of mercury cell chlor-alkali plants.

Abstract: The affected entities are subject to the General Provisions of the NESHAP at 40 CFR part 63, subpart A, and any changes, or additions to the General Provisions specified at 40 CFR part 63, subpart IIIII.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 809 hours per response.

Respondents/Affected Entities: Mercury cell chlor-alkali plants.

Estimated Number of Respondents: 9.

Frequency of Response: Occasionally and semiannually.

Estimated Total Annual Hour Burden: 14,558.

Estimated Total Annual Cost: $74,000, which is comprised of no annualized capital/startup costs and O&M costs of $74,000.

(18) NESHAP for Taconite Iron Ore Processing (40 CFR Part 63, Subpart RRRRR); Docket ID Number EPA-HQ-OECA-2009-0428; EPA ICR Number 2050.04; OMB Control Number 2060-0538; expiration date February 28, 2010.

Affected Entities: Entities potentially affected by this action are the owners or operators of taconite iron ore processing plants.

Abstract: The affected entities are subject to the General Provisions of the NESHAP at 40 CFR part 63, subpart A, and any changes, or additions to the General Provisions specified at 40 CFR part 63, subpart RRRRR.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 19 hours per response.

Respondents/Affected Entities: Taconite iron ore processing plants.

Estimated Number of Respondents: 8.

Frequency of Response: Initially, occasionally, and semiannually.

Estimated Total Annual Hour Burden: 408.

Estimated Total Annual Cost: $258,000, which is comprised of no annualized capital/startup costs and O&M costs of $258,000.

(19) NSPS for Steel Plants: Electric Arc Furnaces and Argon Oxygen Decarbonization Vessels (40 CFR Part 60, Subparts AA and AAa); Docket ID Number EPA-HQ-OECA-2009-0441; EPA ICR Number 1060.15; OMB Control Number 2060-0038; expiration date March 31, 2010.

Affected Entities: Entities potentially affected by this action are the owners or operators of electric arc furnaces and argon oxygen decarbonization vessels.

Abstract: The affected entities are subject to the General Provisions of the NSPS at 40 CFR part 60, subpart A and any changes, or additions to the General Provisions specified at 40 CFR part 60, subparts AA and AAa.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 308 hours per response.

Respondents/Affected Entities: Electric arc furnaces and argon oxygen decarbonization vessels.

Estimated Number of Respondents: 97.

Frequency of Response: Initially, occasionally, and semiannually.

Estimated Total Annual Hour Burden: 60,112.

Estimated Total Annual Cost: $198,000, which is comprised of $4,000 in annualized capital/startup costs and O&M costs of $194,000.

(20) NESHAP for Printing and Publishing Industry (40 CFR Part 63, Subpart KK); Docket ID Number EPA-HQ-OECA-2009-0393; EPA ICR Number 1739.06; OMB Control Number 2060-0335; expiration date March 31, 2010.

Affected Entities: Entities potentially affected by this action are the owners or operators of printing and publishing facilities.

Abstract: The affected entities are subject to the General Provisions of the NESHAP at 40 CFR part 63, subpart A, and any changes, or additions to the General Provisions specified at 40 CFR part 63, subpart KK.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 1,002 hours per response.

Respondents/Affected Entities: Portland cement plants.

Estimated Number of Respondents: 352.

Frequency of Response: Initially, occasionally, and semiannually.

Estimated Total Annual Hour Burden: 50,796.

Estimated Total Annual Cost: $412,000, which is comprised of $7,000 in annualized capital/startup costs and O&M costs of $405,000.

(21) NESHAP for Plastic Parts and Products Surface Coating (40 CFR Part 63, Subpart PPPP); Docket ID Number EPA-HQ-OECA-2009-0402; EPA ICR Number 2044.04; OMB Control Number 2060-0537; expiration date April 30, 2010.

Affected Entities: Entities potentially affected by this action are the owners or operators of plastic parts and products surface coating facilities.

Abstract: The affected entities are subject to the General Provisions of the NESHAP at 40 CFR part 63, subpart A, and any changes, or additions to the General Provisions specified at 40 CFR part 63, subpart PPPP.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 78 hours per response.

Respondents/Affected Entities: Plastic parts and products surface coating facilities.

Estimated Number of Respondents: 828.

Frequency of Response: Initially, occasionally, and semiannually.

Estimated Total Annual Hour Burden: 321,393.

Estimated Total Annual Cost: $264,000, which is comprised of $16,000 in annualized capital/startup costs and O&M costs of $248,000.

(22) NESHAP for Portland Cement (40 CFR Part 63, Subpart LLL); Docket ID Number EPA-HQ-OECA-2009-0425; EPA ICR Number 1801.07; OMB Control Number 2060-0416; expiration date April 30, 2010.

Affected Entities: Entities potentially affected by this action are the owners or operators of portland cement plants.

Abstract: The affected entities are subject to the General Provisions of the NESHAP at 40 CFR part 63, subpart A, and any changes, or additions to the General Provisions specified at 40 CFR part 63, subpart LLL.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 101 hours per response.

Respondents/Affected Entities: Portland cement plants.

Estimated Number of Respondents: 107.

Frequency of Response: Initially, occasionally, semiannually and annually.

Estimated Total Annual Hour Burden: 21,685.

Estimated Total Annual Cost: $954,000, which is comprised of no annualized capital/startup costs and O&M costs of $954,000.

(23) NESHAP for Iron and Steel Foundries (40 CFR Part 63, Subpart EEEEE); Docket ID Number EPA-HQ-OECA-2009-0404; EPA ICR Number 2096.04; OMB Control Number 2060-0537; expiration date May 31, 2010.

Affected Entities: Entities potentially affected by this action are the owners or operators of iron and steel foundries.

Abstract: The affected entities are subject to the General Provisions of the NESHAP at 40 CFR part 63, subpart A, and any changes, or additions to the General Provisions specified at 40 CFR part 63, subpart EEEEE.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 151 hours per response.

Respondents/Affected Entities: Iron and steel foundries.

Estimated Number of Respondents: 98.

Frequency of Response: Initially, occasionally, and semiannually.

Estimated Total Annual Hour Burden: 29,747.

Estimated Total Annual Cost: $400,000, which is comprised of no annualized capital/startup costs and O&M costs of $400,000.

(24) NSPS for Pressure Sensitive Tape and Label Surface Coating Operations (40 CFR Part 60, Subpart RR); Docket ID Number EPA-HQ-OECA-2009-0410; EPA ICR Number 0658.10; OMB Control Number 2060-0004; expiration date May 31, 2010.

Affected Entities: Entities potentially affected by this action are the owners or operators of pressure sensitive tape and label surface coating operations.

Abstract: The affected entities are subject to the General Provisions of the NSPS at 40 CFR part 60, subpart A and any changes, or additions to the General Provisions specified at 40 CFR part 60, subpart RR.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 25 hours per response.

Respondents/Affected Entities: Pressure sensitive tape and label surface coating operations.

Estimated Number of Respondents: 37.

Frequency of Response: Initially, occasionally, and semiannually.

Estimated Total Annual Hour Burden: 3,353.

Estimated Total Annual Cost: $72,000, which is comprised of $7,000, in annualized capital/startup costs and O&M costs of $65,000.

(25) NSPS for Flexible Vinyl and Urethane Coating and Printing (40 CFR Part 60, Subpart FFF); Docket ID Number EPA-HQ-OECA-2009-0420; EPA ICR Number 1157.09; OMB Control Number 2060-0073; expiration date May 31, 2010.

Affected Entities: Entities potentially affected by this action are the owners or operators of flexible vinyl and urethane coating and printing facilities.

Abstract: The affected entities are subject to the General Provisions of the NSPS at 40 CFR part 60, subpart A and any changes, or additions to the General Provisions specified at 40 CFR part 60, subpart FFF.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 14 hours per response.

Respondents/Affected Entities: Flexible vinyl and urethane coating and printing facilities.

Estimated Number of Respondents: 21.

Frequency of Response: Initially, occasionally, and semiannually.

Estimated Total Annual Hour Burden: 593.

Estimated Total Annual Cost: $61,000, which is comprised of $7,000, in annualized capital/startup costs and O&M costs of $54,000.

(26) NSPS for Storage Vessels for Petroleum Liquids for Which Construction, Reconstruction or Modification Commenced After June 11, 1973 prior to July 23, 1984 (40 CFR Part 60, Subpart Ka); Docket ID Number EPA-HQ-OECA-2009-0424; EPA ICR Number 1797.05; OMB Control Number 2060-0442; expiration date May 31, 2010.

Affected Entities: Entities potentially affected by this action are the owners or operators of petroleum liquid storage vessels.

Abstract: The affected entities are subject to the General Provisions of the NSPS at 40 CFR part 60, subpart A and any changes, or additions to the General Provisions specified at 40 CFR part 60, subpart Ka.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 170 hours per response.

Respondents/Affected Entities: Petroleum liquid storage vessels.

Estimated Number of Respondents: 220.

Frequency of Response: Initially, occasionally, and semiannually.

Estimated Total Annual Hour Burden: 678.

Estimated Total Annual Cost: There are no annualized capital/startup costs or O&M costs associated with this ICR.

(27) NSPS for Automobile and Light Duty Truck Surface Coating Operations (40 CFR Part 60, Subpart MM); Docket ID Number EPA-HQ-OECA-2009-0414; EPA ICR Number 1064.16; OMB Control Number 2060-0034; expiration date June 30, 2010.

Affected Entities: Entities potentially affected by this action are the owners or operators of automobile and light duty truck surface coating operations.

Abstract: The affected entities are subject to the General Provisions of the NSPS at 40 CFR part 60, subpart A and any changes, or additions to the General Provisions specified at 40 CFR part 60, subpart MM.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 745 hours per response.

Respondents/Affected Entities: Automobile and light duty truck surface coating operations.

Estimated Number of Respondents: 54.

Frequency of Response: Initially, occasionally, quarterly, and semiannually.

Estimated Total Annual Hour Burden: 156,362.

Estimated Total Annual Cost: $93,000, which is comprised of $2,000, in annualized capital/startup costs and O&M costs of $91,000.

(28) NSPS for Lead Acid Battery Manufacturing (40 CFR Part 60, Subpart KK); Docket ID Number EPA-HQ-OECA-2009-0415; EPA ICR Number 1072.09; OMB Control Number 2060-0081; expiration date June 30, 2010.

Affected Entities: Entities potentially affected by this action are the owners or operators of lead acid battery manufacturing facilities.

Abstract: The affected entities are subject to the General Provisions of the NSPS at 40 CFR part 60, subpart A and any changes, or additions to the General Provisions specified at 40 CFR part 60, subpart KK.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 62 hours per response.

Respondents/Affected Entities: Lead acid battery manufacturing facilities.

Estimated Number of Respondents: 52.

Frequency of Response: Initially, occasionally, and semiannually.

Estimated Total Annual Hour Burden: 4,053.

Estimated Total Annual Cost: $12,000, which is comprised of no annualized capital/startup costs and O&M costs of $12,000.

(29) NESHAP for Miscellaneous Coating Manufacturing (40 CFR Part 63, Subpart HHHHH); Docket ID Number EPA-HQ-OECA-2009-0405; EPA ICR Number 2115.03; OMB Control Number 2060-0535; expiration date June 30, 2010.

Affected Entities: Entities potentially affected by this action are the owners or operators of miscellaneous coating manufacturing facilities.

Abstract: The affected entities are subject to the General Provisions of the NESHAP at 40 CFR part 63, subpart A, and any changes, or additions to the General Provisions specified at 40 CFR part 63, subpart HHHHH.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 84 hours per response.

Respondents/Affected Entities: Miscellaneous coating manufacturing facilities.

Estimated Number of Respondents: 129.

Frequency of Response: Initially, occasionally, semiannually and annually.

Estimated Total Annual Hour Burden: 10,139.

Estimated Total Annual Cost: $44,000, which is comprised of $10,000, in annualized capital/startup costs and O&M costs of $34,000.

(31) NESHAP for Flexible Polyurethane Foam Product (40 CFR Part 63, Subpart III); Docket ID Number EPA-HQ-OECA-2009-0394; EPA ICR Number 1783.05; OMB Control Number 2060-0357; expiration date June 30, 2010.

Affected Entities: Entities potentially affected by this action are the owners or operators of flexible polyurethane foam product facilities.

Abstract: The affected entities are subject to the General Provisions of the NESHAP at 40 CFR part 63, subpart A, and any changes, or additions to the General Provisions specified at 40 CFR part 63, subpart III.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 43 hours per response.

Respondents/Affected Entities: Flexible polyurethane foam product facilities.

Estimated Number of Respondents: 132.

Frequency of Response: Initially, occasionally, semiannually and annually.

Estimated Total Annual Hour Burden: 9,047.

Estimated Total Annual Cost: There are no annualized capital/startup costs or O&M costs associated with this ICR.

(32) NESHAP for Mineral Wool Production (40 CFR Part 63, Subpart DDD); Docket ID Number EPA-HQ-OECA-2009-0395; EPA ICR Number 1799.05; OMB Control Number 2060-0362; expiration date May 31, 2010.

Affected Entities: Entities potentially affected by this action are the owners or operators of mineral wool production facilities.

Abstract: The affected entities are subject to the General Provisions of the NESHAP at 40 CFR part 63, subpart A, and any changes, or additions to the General Provisions specified at 40 CFR part 63, subpart DDD.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 126 hours per response.

Respondents/Affected Entities: Mineral wool production facilities.

Estimated Number of Respondents: 12.

Frequency of Response: Initially, occasionally, and semiannually.

Estimated Total Annual Hour Burden: 3,018.

Estimated Total Annual Cost: $9,000, which is comprised of no annualized capital/startup costs and O&M costs of $9,000.

(33) NESHAP for Wood Furniture Manufacturing Operations (40 CFR Part 63, Subpart JJ); Docket ID Number EPA-HQ-OECA-2009-0380; EPA ICR Number 1716.06; OMB Control Number 2060-0324; expiration date June 30, 2010.

Affected Entities: Entities potentially affected by this action are the owners or operators of wood furniture manufacturing operations.

Abstract: The affected entities are subject to the General Provisions of the NESHAP at 40 CFR part 63, subpart A, and any changes, or additions to the General Provisions specified at 40 CFR part 63, subpart JJ.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 45 hours per response.

Respondents/Affected Entities: Wood furniture manufacturing operations.

Estimated Number of Respondents: 750.

Frequency of Response: Initially, occasionally, quarterly, semiannually and annually.

Estimated Total Annual Hour Burden: 47,190.

Estimated Total Annual Cost: $18,000, which is comprised of no annualized capital/startup costs and O&M costs of $18,000.

(34) NESHAP for the Manufacture of Amino/Phenolic Resins (40 CFR Part 63, Subpart OOO); Docket ID Number EPA-HQ-OECA-2009-0397; EPA ICR Number 1869.06; OMB Control Number 2060-0434; expiration date July 31, 2010.

Affected Entities: Entities potentially affected by this action are the owners or operators of amino/phenolic resins manufacturing facilities.

Abstract: The affected entities are subject to the General Provisions of the NESHAP at 40 CFR part 63, subpart A, and any changes, or additions to the General Provisions specified at 40 CFR part 63, subpart OOO.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 293 hours per response.

Respondents/Affected Entities: amino/phenolic resins manufacturing facilities.

Estimated Number of Respondents: 40.

Frequency of Response: Initially, occasionally, quarterly, semiannually and annually.

Estimated Total Annual Hour Burden: 24,044.

Estimated Total Annual Cost: $16,000, which is comprised of no annualized capital/startup costs and O&M costs of $16,000.

(35) NSPS for Magnetic Tape Coating Facilities (40 CFR Part 60, Subpart SSS); Docket ID Number EPA-HQ-OECA-2009-0419; EPA ICR Number 1135.10; OMB Control Number 2060-0171; expiration date July 31, 2010.

Affected Entities: Entities potentially affected by this action are the owners or operators of magnetic tape coating facilities.

Abstract: The affected entities are subject to the General Provisions of the NSPS at 40 CFR part 60, subpart A and any changes, or additions to the General Provisions specified at 40 CFR part 60, subpart SSS.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 88 hours per response.

Respondents/Affected Entities: Magnetic tape coating facilities.

Estimated Number of Respondents: 6.

Frequency of Response: Initially, occasionally, quarterly, and semiannually.

Estimated Total Annual Hour Burden: 2,017.

Estimated Total Annual Cost: $87,000, which is comprised of $34,000, in annualized capital/startup costs and O&M costs of $53,000.

(36) NESHAP for Pharmaceutical Production (40 CFR Part 63, Subpart GGG); Docket ID Number EPA-HQ-OECA-2009-0381; EPA ICR Number 1781.05; OMB Control Number 2060-0358; expiration date July 31, 2010.

Affected Entities: Entities potentially affected by this action are the owners or operators of pharmaceutical production facilities.

Abstract: The affected entities are subject to the General Provisions of the NESHAP at 40 CFR part 63, subpart A, and any changes, or additions to the General Provisions specified at 40 CFR part 63, subpart GGG.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 250 hours per response.

Respondents/Affected Entities: Pharmaceutical production facilities.

Estimated Number of Respondents: 101.

Frequency of Response: Initially, occasionally, quarterly, semiannually and annually.

Estimated Total Annual Hour Burden: 158,179.

Estimated Total Annual Cost: $9,000, which is comprised of $5,000, in annualized capital/startup costs and O&M costs of $4,000.

(37) NESHAP for Metal Can Manufacturing Surface Coating (40 CFR Part 63, Subpart KKKK); Docket ID Number EPA-HQ-OECA-2009-0403; EPA ICR Number 2079.04; OMB Control Number 2060-0541; expiration date July 31, 2010.

Affected Entities: Entities potentially affected by this action are the owners or operators of metal can manufacturing surface coating facilities.

Abstract: The affected entities are subject to the General Provisions of the NESHAP at 40 CFR part 63, subpart A, and any changes, or additions to the General Provisions specified at 40 CFR part 63, subpart KKKK.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 28 hours per response.

Respondents/Affected Entities: Metal can manufacturing surface coating.

Estimated Number of Respondents: 1.

Frequency of Response: Initially, occasionally, and semiannually.

Estimated Total Annual Hour Burden: 7,815.

Estimated Total Annual Cost: $1,732,000, which is comprised of $1,731,000, in annualized capital/startup costs and O&M costs of $1,000.

(38) NESHAP for Commercial Ethylene Oxide Sterilization and Fumigation Operations (40 CFR Part 63, Subpart O); Docket ID Number EPA-HQ-OECA-2009-0392; EPA ICR Number 1666.08; OMB Control Number 2060-0283; expiration date July 31, 2010.

Affected Entities: Entities potentially affected by this action are the owners or operators of commercial ethylene oxide sterilization and fumigation operations.

Abstract: The affected entities are subject to the General Provisions of the NESHAP at 40 CFR part 63, subpart A, and any changes, or additions to the General Provisions specified at 40 CFR part 63, subpart O.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 37 hours per response.

Respondents/Affected Entities: Commercial ethylene oxide sterilization and fumigation operations.

Estimated Number of Respondents: 119.

Frequency of Response: Initially, occasionally, and semiannually.

Estimated Total Annual Hour Burden: 8,662.

Estimated Total Annual Cost: $648,000, which is comprised of $65,000, in annualized capital/startup costs and O&M costs of $583,000.

(39) NSPS for Secondary Brass and Bronze Production (40 CFR Part 60, Subpart M), Primary Copper Smelters (40 CFR Part 60, Subpart P, Primary Zinc Smelters (40 CFR Part 60, Subpart Q), Primary Lead Smelters (40 CFR Part 60, Subpart R), Primary Aluminum Reduction Plants (40 CFR Part 60, Subpart S), and Ferroalloy Production Facilities (40 CFR Part 60, Subpart Z); Docket ID Number EPA-HQ-OECA-2009-0421; EPA ICR Number 1604.09; OMB Control Number 2060-0110; expiration date July 31, 2010.

Affected Entities: Entities potentially affected by this action are the owners or operators of secondary brass and bronze production facilities, primary copper smelters, primary zinc smelters, primary lead smelters, primary aluminum reduction plants, and ferroalloy production facilities.

Abstract: The affected entities are subject to the General Provisions of the NSPS at 40 CFR part 60, subpart A and any changes, or additions to the General Provisions specified at 40 CFR part 60, subparts M, P, Q, R, S and Z.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 169 hours per response.

Respondents/Affected Entities: Secondary brass and bronze production facilities, primary copper smelters, primary zinc smelters, primary lead smelters, primary aluminum reduction plants, and ferroalloy production facilities.

Estimated Number of Respondents: 18.

Frequency of Response: Initially, occasionally, semiannually and annually.

Estimated Total Annual Hour Burden: 4,914.

Estimated Total Annual Cost: $132,000, which is comprised of no annualized capital/startup costs and O&M costs of $132,000.

(40) NSPS for the Graphic Arts Industry (40 CFR Part 60, Subpart QQ); Docket ID Number EPA-HQ-OECA-2009-0409; EPA ICR Number 0657.10; OMB Control Number 2060-0105; expiration date July 31, 2010.

Affected Entities: Entities potentially affected by this action are the owners or operators of graphic arts facilities.

Abstract: The affected entities are subject to the General Provisions of the NSPS at 40 CFR part 60, subpart A and any changes, or additions to the General Provisions specified at 40 CFR part 60, subpart QQ.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 37 hours per response.

Respondents/Affected Entities: Graphic arts facilities.

Estimated Number of Respondents: 19.

Frequency of Response: Initially, occasionally, and semiannually.

Estimated Total Annual Hour Burden: 1,718.

Estimated Total Annual Cost: There are no annualized capital/startup costs or O&M costs associated with this ICR.

(41) NESHAP for Gasoline Distribution Facilities (40 CFR Part 63, Subpart R); Docket ID Number EPA-HQ-OECA-2009-0423; EPA ICR Number 1659.07; OMB Control Number 2060-0325; expiration date August 31, 2010.

Affected Entities: Entities potentially affected by this action are the owners or operators of gasoline distribution facilities.

Abstract: The affected entities are subject to the General Provisions of the NESHAP at 40 CFR part 63, subpart A, and any changes, or additions to the General Provisions specified at 40 CFR part 63, subpart R.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 62 hours per response.

Respondents/Affected Entities: Gasoline distribution facilities.

Estimated Number of Respondents: 263.

Frequency of Response: Initially, occasionally, semiannually and annually.

Estimated Total Annual Hour Burden: 32,575.

Estimated Total Annual Cost: $851,000, which is comprised of no annualized capital/startup costs and O&M costs of $851,000.

(60) NSPS for Sewage Sludge Treatment Plant Incineration (40 CFR Part 60, Subpart O); Docket ID Number EPA-HQ-OECA-2009-0413; EPA ICR Number 1063.11; OMB Control Number 2060-0035; expiration date August 31, 2010.

Affected Entities: Entities potentially affected by this action are the owners or operators of sewage sludge treatment plant incinerators.

Abstract: The affected entities are subject to the General Provisions of the NSPS at 40 CFR part 60, subpart A and any changes, or additions to the General Provisions specified at 40 CFR part 60, subpart O.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 55 hours per response.

Respondents/Affected Entities: Sewage sludge treatment plant incinerators.

Estimated Number of Respondents: 54.

Frequency of Response: Initially, occasionally, and semiannually.

Estimated Total Annual Hour Burden: 6,214.

Estimated Total Annual Cost: $1,990,000, which is comprised of $100,000, in annualized capital/startup costs and O&M costs of $1,890,000.

(42) NESHAP Chromium Emissions From Hard and Decorative Chromium Electroplating and Chromium Anodizing Tanks (40 CFR Part 63, Subpart N); Docket ID Number EPA-HQ-OECA-2009-0422; EPA ICR Number 1611.07; OMB Control Number 2060-0327; expiration date September 30, 2010.

Affected Entities: Entities potentially affected by this action are the owners or operators of hard and decorative chromium electroplating and chromium anodizing tanks.

Abstract: The affected entities are subject to the General Provisions of the NESHAP at 40 CFR part 63, subpart A, and any changes, or additions to the General Provisions specified at 40 CFR part 63, subpart N.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 83 hours per response.

Respondents/Affected Entities: Hard and decorative chromium electroplating and chromium anodizing tanks.

Estimated Number of Respondents: 5,020.

Frequency of Response: Initially, occasionally, quarterly, semiannually and annually.

Estimated Total Annual Hour Burden: 495,774.

Estimated Total Annual Cost: $75,300,000, which is comprised of no annualized capital/startup costs and O&M costs of $75,300,000.

(43) NESHAP for Boat Manufacturing (40 CFR Part 63, Subpart VVVV); Docket ID Number EPA-HQ-OECA-2009-0400; EPA ICR Number 1966.04; OMB Control Number 2060-0546; expiration date September 30, 2010.

Affected Entities: Entities potentially affected by this action are the owners or operators of boat manufacturers.

Abstract: The affected entities are subject to the General Provisions of the NESHAP at 40 CFR part 63, subpart A, and any changes, or additions to the General Provisions specified at 40 CFR part 63, subpart VVVV.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 230 hours per response.

Respondents/Affected Entities: Boat manufacturers.

Estimated Number of Respondents: 45.

Frequency of Response: Initially, occasionally, semiannually and annually.

Estimated Total Annual Hour Burden: 10,343.

Estimated Total Annual Cost: There are no annualized capital/startup costs or O&M costs associated with this ICR.

EPA will consider any comments received and may amend any of the above ICRs, as appropriate. Then the final ICR packages will be submitted to OMB for review and approval pursuant to 5 CFR 1320.12. At that time, EPA will issue one or more Federal Register notices pursuant to 5 CFR 1320.5(a)(1)(iv) to announce the submission of the ICR(s) to OMB and the opportunity to submit additional comments to OMB. If you have any questions about any of the above ICRs or the approval process, please contact the person listed under FOR FURTHER INFORMATION CONTACT.

Dated: June 26, 2009.
Lisa C. Lund,
Director, Office of Compliance.

[FR Doc. E9-16134 Filed 7-7-09; 8:45 am]

BILLING CODE 6560-50-P